DEFENSE NUCLEAR FACILITIES SAFETY BOARD

10 CFR Part 1708

Procedures for Safety Investigations

AGENCY: Defense Nuclear Facilities Safety Board.

ACTION: Proposed rule; extension of comment period.

SUMMARY: The Defense Nuclear Facilities Safety Board is extending the time for comments on its proposed rule, Procedures for Safety Investigations, which published July 27, 2012 in the Federal Register, 77 FR 44174. The comment period expires August 27, 2012.

DATES: Comments are due by 5 p.m. September 26, 2012.

ADDRESSES: Submit comments to John G. Batherson, Associate General Counsel, Defense Nuclear Facilities Safety Board, 625 Indiana Avenue NW., Suite 700, Washington, DC 20004. Send comments by facsimile to (202) 208-6518. Send comments by email to John G. Batherson at JohnB@dnfsb.gov.

FOR FURTHER INFORMATION CONTACT: John G. Batherson, Associate General Counsel, Defense Nuclear Facilities Safety Board, 625 Indiana Avenue NW., Suite 700, Washington, DC 20004-2901, (202) 694-7018

SUPPLEMENTARY INFORMATION: The Defense Nuclear Facilities Safety Board is extending the comment period on the proposed rule, Procedures for Safety Investigations, because it has become aware of information which will best serve the public interest by extending the deadline for submission of comments for consideration by the Board. For this reason, the Board is extending the comment period to September 26, 2012.

Dated: August 22, 2012.
Peter S. Winokur,
Chairman.

[FR Doc. 2012-21237 Filed 8-27-12; 8:45 am]

BILLING CODE 3670-01-P